DEPARTMENT OF TRANSPORTATION

Surface Transportation Board

[STB Finance Docket No. 34837]

BNSF Railway Company—Trackage Rights Exemption—Union Pacific Railroad Company

Union Pacific Railroad Company (UP) has agreed to grant overhead trackage rights to BNSF Railway Company (BNSF), between UP “North Jct.” milepost 242.57 on UP's Lost Springs Subdivision, and UP milepost 481.96 on UP's Wichita Industrial Lead.

BNSF indicates that the transaction was to be consummated on February 22, 2006, the effective date of the exemption (7 days after the exemption was filed).

The purpose of the trackage rights is to facilitate overhead movement of BNSF cars between BNSF's yard in Wichita, KS, and the Frisco Lead (BNSF's rail line severed by removal of railroad crossing diamonds at Washington Street in Wichita).

As a condition to this exemption, any employees affected by the trackage rights will be protected by the conditions imposed in Norfolk and Western Ry. Co.—Trackage Rights—BN, 354 I.C.C. 605 (1978), as modified in Mendocino Coast Ry., Inc.—Lease and Operate, 360 I.C.C. 653 (1980).

This notice is filed under 49 CFR 1180.2(d)(7). If it contains false or misleading information, the exemption is void ab initio. Petitions to revoke the exemption under 49 U.S.C. 10502(d) may be filed at any time. The filing of a petition to revoke will not automatically stay the transaction.

An original and 10 copies of all pleadings, referring to STB Finance Docket No. 34837, must be filed with the Surface Transportation Board, 1925 K Street, NW., Washington, DC 20423-0001. In addition, a copy of each pleading must be served on Sidney L. Strickland, Jr., 3050 K Street NW., Suite 101, Washington, DC 20007.

Board decisions and notices are available on our Web site at http://www.stb.dot.gov.

Decided: February 22, 2006.
By the Board, David M. Konschnik, Director, Office of Proceedings.
Vernon A. Williams,
Secretary.

[FR Doc. 06-1833 Filed 3-1-06; 8:45 am]

BILLING CODE 4915-01-P